DEPARTMENT OF THE INTERIOR

National Park Service

National Register of Historic Places;Notification of Pending Nominations and Related Actions

Nominations for the following properties being considered for listing or related actions in the National Register were received by the National Park Service before October 15, 2005. Pursuant to § 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by November 25, 2005.

John W. Roberts,
Acting Chief, National Register/National Historic Landmarks Program.

Kentucky

Allen County

Satterfield, Edward and Julia, House, 10085 Bowling Green Rd., Scottsville, 05001304

Boone County

Blau, Nicholas S. and Gertrude E., House, (Boone County, Kentucky MPS) 15 Alta Vista Ave., Walton, 05001305

Code House, (Boone County, Kentucky MPS) 965 Beaver Rd., Walton, 05001306

Dinsmore, James, House (Boundary Increase), (Boone County, Kentucky MPS) 5655 Burlington Pike, Burlington, 05001307

Mayhugh, John Clifton and Ann Catherine, House, (Boone County, Kentucky MPS) 133 N. Main St., Walton, 05001309

McKim, W.F. and Florence, House, (Boone County, Kentucky MPS) 6031 S. Orient St., Burlington, 05001310

Milburn, Frank S., Machine Shop, 5844 N. Orient St., Burlington, 05001311

Rouse, Dr. Gladys, Office and House, (Boone County, Kentucky MPS) 221 Main St., Florence, 05001313

Stephens, J.Q.A., House, (Boone County, Kentucky MPS) 5572 Rabbit Hash Rd., Union, 05001308

Tomlin, John G., House, (Boone County, Kentucky MPS) 109 N. Main St., Walton, 05001314

Rolsen, Henry and Agnes, House, (Boone County, Kentucky MPS) 3044 Dry Creek Rd., Constance, 05001312

Caldwell County

Tradewater River Dam and Riverside Park, Old Mill Dam Rd., Dawson Springs, 05001315

Harrison County

Handy Farm, US 62, Cynthiana, 05001316

Hart County

Pearce—Wheeler Farm, 640 Sims Cemetery Rd., Canmer, 05001317

Jefferson County

Ford Motor Company, Louisville Plant, 2500 S. 3rd St., Louisville, 05001318

Simeon Lewis Rural Historic District, 5215 Bardstown Rd., Louisville, 05001319

Kenton County

Fifth District School, 1735 Homan Ave., Covington, 05001320

St. Augustine Church Complex, 1839 Euclid Ave., Covington, 05001321

Mason County

Pogue House, 716 W. Second St., Maysville, 05001322

Massachusetts

Berkshire County

Pilgrim Memorial Church and Parish House, 249 Wahconah St., Pittsfield, 05001323

Middlesex County

Russian Cemetary, Patten Rd., Westford, 05001324

Missouri

Boone County

Stephens College, South Campus, 1200 E. Broadway, Columbia, 05001326

Gentry County

Insurance Building—Consumers Cooperative Association Building, 318-320 E. 10th St., Kansas City, 05001327

Jackson County

Nicholson, George E., House, 1028 W. 58th St., Kansas City, 05001325

St. Louis Independent city Standard Adding Machine Building, 3701 Forest Park Blvd., St. Louis (Independent City), 05001328

Vernon County

Infirmary Building, Missouri State Hospital Number 3, 2095 N. Ash St., Nevada, 05001330

Nebraska

Lancaster County

Phi Kappa Tau Fraternity House, 5305 Huntington Ave., Lincoln, 05001329

New Jersey

Mercer County

Stockton Street Historic District, 126-136 Stockton St., 219-237 Rogers Ave., Highstown, 05001331

Middlesex County

Saint Peter the Apostle Church, 94 Somerset St., New Brunsdwick, 05001332

North Dakota

Walsh County

Ridge Trail Historic District, Address Restricted, Kensington, 05001333

South Dakota

Clark County

Clark Center Lutheran Church, E of jct. of 421st Ave. and 168th St., Clark, 05001336

Tennessee

Davidson County

Mount Olivet Cemetery, 1101 Lebanon Pike, Nashville, 05001334

Henry County

Barrs Chapel C.M.E. Church, 5560 Briarpatch Lake Rd., Midway, 05001335

Texas

Robertson County

Franklin Carnegie Library, 315 East Decherd, Franklin, 05001337

Wyoming

Sheridan County

Dayton Community Hall, 410 Bridge St., Dayton, 05001338

[FR Doc. 05-22290 Filed 11-8-05; 8:45 am]

BILLING CODE 4312-51-U